DEPARTMENT OF DEFENSE

Department of the Navy

[Docket ID: USN-2008-0028]

Privacy Act of 1974; System of Records

AGENCY: Department of the Navy, DoD.

ACTION: Notice to amend a system of records.

SUMMARY: The Department of the Navy is amending a system of records notice in its existing inventory of record systems subject to the Privacy Act of 1974, (5 U.S.C. 552a), as amended.

DATES: This proposed action will be effective without further notice on September 2, 2008 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The specific changes to the record system being amended are set forth below followed by the notice, as amended, published in its entirety. The proposed amendments are not within the purview of subsection (r) of the Privacy Act of 1974, (5 U.S.C. 552a), as amended, which requires the submission of a new or altered system report.

Dated: July 25, 2008.
Patricia Toppings,
OSD Federal Register Liaison Officer, Department of Defense.

NM01070-9

System name:

White House Support Program (April 15, 2008, 73 FR 20264)).

Changes:

* * * * *

System location:

At end of entry, add “and Naval Support Facility (NSF), Thurmont, P.O. Box 1000, Thurmont, MD 21788-5100.”

* * * * *

NM01070-9

System name:

White House Support Program.

System location:

White House Liaison Office, Office of the Secretary of the Navy, 1000 Navy Pentagon, Washington, DC 20350-1000 and Naval Support Facility (NSF), Thurmont, P.O. Box 1000, Thurmont, MD 21788-5100.

Categories of individuals covered by the system:

All Navy and Marine Corps military and civilian personnel and contractor employees who had been nominated by their employing activities for assignment to Presidential support duties.

Categories of records in the system:

White House Military Office Security Screening Questionnaire; personnel records; name, Social Security Number (SSN); photographs; fingerprint cards; interview sheet; correspondence, documents and records concerning classification, security clearances, assignment, training, and other qualifications relating to suitability for Presidential support duties.

Authority for maintenance of the system:

10 U.S.C. 5013, Secretary of the Navy; 10 U.S.C. 5041, Headquarters, Marine Corps; and E.O. 9397 (SSN).

Purpose(s):

To evaluate and nominate individuals for assignment to Presidential support duties and to ensure that only those individuals most suitably qualified are assigned to duty in Presidential support activities.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To officials and employees in the Executive Office of the President in the performance of their duties related to personnel administration, and evaluation and nomination of individuals for assignment to Presidential support duties.

To officials and employees of other federal agencies and offices, upon request, in the performance of their official duties related to the provision of Presidential support and protection.

The ‘Blanket Routine Uses’ that appear at the beginning of the Navy's compilation of systems of records notices apply to this system.

Policies and practices for storing, retrieving, accessing, retaining, and disposing of records in the system:

Storage:

Paper and automated records/databases.

Retrievability:

Name and/or Social Security Number (SSN).

Safeguards:

Records are afforded appropriate protection at all times, stored in locked rooms and locked file cabinets, and are accessible only to authorized personnel who have a definite need-to-know and who are properly screened, cleared, and trained. Access to automated information is password protected and only available to individuals with an official need-to-know.

Retention and disposal:

Successful candidate's package held for one year past period of tour. Unsuccessful candidate's package destroyed within 1 year.

System manager(s) and address:

Administrative Aide to the Secretary of the Navy, 1000 Navy Pentagon, Washington, DC 20350-1000.

Notification procedure:

Individuals seeking to determine whether information about themselves is contained in this system should address written inquiries to the Office of the Administrative Aide to the Secretary of the Navy, 1000 Navy Pentagon, Washington, DC 20350-1000.

Individual should sign their request and provide full name and Social Security Number (SSN).

Record access procedures:

Individuals seeking access to information about themselves contained in this system should address written inquiries to the Office of the Administrative Aide to the Secretary of the Navy, 1000 Navy Pentagon, Washington, DC 20350-1000.

Individual should sign their request and provide full name and Social Security Number (SSN).

Contesting record procedures:

The Navy's rules for accessing records, and for contesting contents and appealing initial agency determinations are published in Secretary of the Navy Instruction 5211.5; 32 CFR part 701; or may be obtained from the system manager.

Record source categories:

Officials and employees of the Department of the Navy and other Department of Defense components; federal, state, and local court documents; civilian and military investigative reports; general correspondence concerning the individual; and federal and state agency records.

Exemptions claimed for the system:

Parts of this system may be exempt under 5 U.S.C. 552a(k)(1), (k)(2), (k)(3) and (k)(5), as applicable.

An exemption rule for this system has been promulgated in accordance with requirements of 5 U.S.C. 553(b)(1), (2), and (3), (c) and (e) and published in 32 CFR part 701, subpart G. For additional information contact the system manager.

[FR Doc. E8-17598 Filed 7-31-08; 8:45 am]

BILLING CODE 5001-06-P